DEPARTMENT OF ENERGY

Federal Energy Regulatory Commission

[IC00-580-000, FERC Form-580]

Proposed Information Collection and Request for Comments

June 15, 2000.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission) is soliciting public comment on the specific aspects of the information collection described below.

DATES: Consideration will be given to comments submitted on or before August 21, 2000.

ADDRESSES: Copies of the proposed collection of information can be obtained from and written comments may be submitted to the Federal Energy Regulatory Commission, Attn: Michael P. Miller, Office of the Chief Information Officer, CI-1, 888 First Street, NE., Washington, DC 20426.

FOR FURTHER INFORMATION CONTACT: Michael Miller may be reached by telephone at (202) 208-1415, by fax at (202) 208-2425, and by e-mail at mike.miller@ferc.fed.us.

SUPPLEMENTARY INFORMATION: The information collected under the requirements for FERC Form 580, “Interrogatory on Fuel and Energy Purchase Practices,” Docket No. IN79-6, (OMB No. 1902-0137) is used by the Commission to implement the statutory provisions of section 205(f) of the Federal Power Act (FPA), as added by the Public Utility Regulatory Policies Act (PURPA) (Pub. L. 95-617). These provisions require that “not less frequently than every 2 years * * * the Commission shall review, with respect to each public utility, practices under automatic adjustment clauses of such utility to ensure efficient use of resources (including economical purchase and use of fuel and electric energy) under such clauses.”

FERC Form 580 is collected on diskette and in hard copy. The Form 580 information is used by Commission staff to: (1) Evaluate fuel costs in individual rate proceedings; (2) review fuel costs passed through automatic fuel adjustment clauses, as determined during periodic compliance audits of utility books and records; (3) initiate Commission action under section 205(f)(3) of the FPA to order a public utility to modify the terms and provisions of any automatic adjustment clause or to cease any practice in connection with the clause; and (4) determine whether wholesale rates are just and reasonable, as required under FPA Section 205(a).

Action: The Commission is requesting a three-year extension of the current expiration date. The current Form 580 can be found on the Commission's web site at: http://www.ferc.fed.us/electric/f580/form580.htm.

Burden Statement: Public reporting burden for this collection is estimated as:

Number of respondents (1) | Annual number of responses per respondent (2) | Average burden hours per response (3) | Total annual burden (in hours) (1) × (2) × (3)
129 | ¹ .5 | 64 | 4.128
¹ The FERC Form 580 is collected once every two years.

The reduction in average burden hours per response has been reduced from 93.5 to 64 hours. This is a direct result of a lower percentage of jurisdictional utilities having fuel adjustment clauses and thus having to file the complete Form 580 interrogatory. Only those utilities with fuel adjustment clauses are required to file the full interrogatory. Utilities without fuel adjustment clauses are required to file an abbreviated form. The estimated total cost to respondents is $221,374 (4,128 hours divided by 2,080 hours per year per full time employee multiplied by $111,545 per year per average employee equals $221,374). The average cost per respondent is estimated to be $1,716.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, (e.g. permitting electronic submission of responses).

Linwood A. Watson, Jr.,
Acting Secretary.

[FR Doc. 00-15565 Filed 6-20-00; 8:45 am]

BILLING CODE 6717-01-M